DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before June 4, 2007. Address written comments to Statutory Import Programs Staff, Room 2104, U.S. Department of Commerce, Washington, DC 20230. Applications may be examined between 8:30 a.m. and 5 p.m. at the U.S. Department of Commerce in Room 2104.

Docket Number: 07-023. Applicant: University of Miami, Biology Department, 1301 Memorial Drive, Room 215, Coral Gables, FL 33146. Instrument: Electron Microscope, Model JEM-1400. Manufacturer: JEOL, USA, Inc., Japan. Intended Use: The instrument is intended to be used to study the ultrastructure of defensive glandular structures in the sea hare. Aplysia californica is to be studied. Structures to be examined include the ink gland, opaline gland and white skin vesicles. Also, studied will be the digestive gland and gill ultrastructure. The objectives are to attempt to determine if there is a link between food sources and the structure of the various glands described above. Application accepted by Commissioner of Customs: April 18, 2007.

Docket Number: 07-024. Applicant: Shriners Hospitals for Children, 3101 S.W. Sam Jackson Park Road, Portland, OR 97239. Instrument: Transmission Electron Microscope. Manufacturer: FEI, Company, The Netherlands. Intended Use: The instrument is intended to be used to examine sections from normal and diseased tissues, particularly in connective tissue, in an effort to determine the consequence of disease. Molecules and tissues will be analyzed in two and three dimensions using electron tomography for a better understanding of their structure and relationships to neighboring tissues and molecules. The distribution of molecules in normal and diseased tissues and the dimensional structure within cells and tissues will provide a better understanding of how they react in a tissue environment with other matrix molecules. Application accepted by Commissioner of Customs: April 27, 2007.

Docket Number: 07-027. Applicant: University of Missouri-Columbia, Veterinary Medicine Building, Room W122, 1600 East Rollins, Columbia, MD 65211. Instrument: Transmission Electron Microscope, Model JEM-1400. Manufacturer: JEOL, Japan. Intended Use: The instrument is intended to be used in a central facility by an average of 50 different groups per year including faculty, staff and students to study the ultrastructure of a wide variety of biological and material samples including animal and plant tissues, microorganisms, and geological and engineering samples. The majority of use will be for biomedical research, agricultural questions and engineering problems. Materials developed for nanomedicine, pathogenic organisms, animal models of human disease, gene therapy and new devices and processes in engineering will be highlighted by 3D tomography. Application accepted by Commissioner of Customs: April 27, 2007.

Docket Number: 07-028. Applicant: Vanderbilt University, Center for Structural Biology, 465 21st Avenue South, MRB III, Suite 5140, Nashville, TN 37232. Instrument: Transmission Electron Microscope, Model FP 5005/05. Manufacturer: FEI, Brno, Czech Republic. Intended Use: The instrument is intended to be used to study purified biological macromolecular complexes such as the spliceosome and the anaphase promoting complex, composed of protein and RNA components. The objective is to determine the three dimensional structures of large macromolecular complexes. Application accepted by Commissioner of Customs: April 27, 2007.

Faye Robinson,
Director, Statutory Import Programs Staff.

[FR Doc. E7-9214 Filed 5-11-07; 8:45 am]

BILLING CODE 3510-DS-P